ENVIRONMENTAL PROTECTION AGENCY

[FRL-6866-5]

Agency Information Collection Activities: Submission for OMB Review; Comment Request; 2000 Meat Products Industry Surveys (EPA ICR 1961.01)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “2000 Meat Products Industry Surveys” (EPA ICR No. 1961.01). The ICR describes the nature of the information collection and its expected burden and cost; where appropriate, it includes the actual data collection instruments.

DATES: Comments must be submitted on or before October 10, 2000.

ADDRESSES: Send comments, referencing EPA ICR No. 1961.01, to the following addresses: Sandy Farmer, U.S. Environmental Protection Agency, Collection Strategies Division (Mail Code 2822), 1200 Pennsylvania Avenue, NW., Washington, DC 20460; and to the Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1961.01. For technical questions about the ICR contact Samantha Lewis at (202) 260-7149.

SUPPLEMENTARY INFORMATION: Title: 2000 Meat Products Industry Surveys (EPA ICR No.1961.01). This is a new collection.

Abstract: The 2000 Meat Products Industry Surveys will collect, from industry, the technical and economic information required by EPA to develop effluent limitations guidelines and pretreatment standards. The Surveys cover slaughtering, further processing, and rendering of animals classified as red meat and poultry.

EPA will issue these surveys under authority of section 308 of the Clean Water Act, 33 U.S.C. 1318, which authorizes EPA to require the owner or operator of a point source to submit certain information that EPA needs to develop effluent regulations. The Surveys will provide the technical and economic information required to effectively evaluate pollution control technologies and the economic achievability of those technologies. Respondents will have the right to claim information as confidential. An Agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information, was published on May 1, 2000 (65 FR 25325). Four sets of comments were received.

Burden Statement: The data collection consists of 3 elements: The Detailed Survey, the Screener Survey, and the 5-day analytical data requests for 20 facilities. The total nationwide public reporting and record keeping burden for this one-time, information collection is estimated to be 14,900 hours (30 hours per response for the Detailed Survey, 1 hour for the Screener Survey, and 138 hours for the analytical data). A facility receiving a request for analytical data is likely to also receive a survey. Burden means the total time, effort, or financial resources expended by persons to generate, maintain, retain, or disclose or provide information to or for a Federal agency. This includes the time needed to review instructions; to develop, acquire, install, and utilize technology and systems for the purposes of collecting, validating, and verifying information, processing and maintaining information, and disclosing and providing information; to adjust the existing ways to comply with any previously applicable instructions and requirements; to train personnel to be able to respond to a collection of information; to search data sources; to complete and review the collection of information; and to transmit or otherwise disclose the information.

EPA has identified approximately 8,000 facilities as potentially in the Meat Products Industry. EPA will send the Detailed Survey to approximately 350 sites and will send the Screener Survey to approximately 1,650 sites. The survey recipients will be selected using engineering judgement and statistical sampling methods. The estimated cost to complete the Detailed Survey is approximately $2,000 per site. The estimated cost for the screener survey is approximately $70 per site. For approximately 20 facilities, EPA will request five days of influent and effluent analytical data to be collected and sent to EPA labs for analysis. The estimated cost for each of these 20 sites is $9,500. The estimated total cost for the information collection burden is $1.03 million.

Send comments on the Agency's need for this information, the accuracy of the provided burden estimates, and any suggested methods for minimizing respondent burden, including through the use of automated collection techniques to the addresses listed above. Please refer to EPA ICR No. 1961.01 in any inquiry.

Dated: August 30, 2000.
Oscar Morales,
Director, Collection Strategies Division.

[FR Doc. 00-23147 Filed 9-7-00; 8:45 am]

BILLING CODE 6560-50-U